NUCLEAR REGULATORY COMMISSION

[NRC-2020-0001]

Sunshine Act Meetings

TIME AND DATE: Weeks of January 27, February 3, 10, 17, 24, March 2, 2020.

PLACE: Commissioners' Conference Room, 11555 Rockville Pike, Rockville, Maryland.

STATUS: Public.

Week of January 27, 2020

Tuesday, January 28, 2020

9:00 a.m.—Discussion of Medical Uses of Radioactive Materials (Public Meeting) (Contact: Lisa Dimmick: 301-415-0694)

This meeting will be webcast live at the Web address— https://www.nrc.gov/.

Week of February 3, 2020—Tentative

Thursday, February 6, 2020

9:00 a.m.—Briefing on Advanced Reactors and New Reactor Topics (Public Meeting) (Contact: Luis Betancourt: 301-415-6146)

This meeting will be webcast live at the Web address— https://www.nrc.gov/.

Week of February 10, 2020—Tentative

There are no meetings scheduled for the week of February 10, 2020.

Week of February 17, 2020—Tentative

There are no meetings scheduled for the week of February 17, 2020.

Week of February 24, 2020—Tentative

Tuesday, February 25, 2020

9:00 a.m.—Overview of Accident Tolerant Fuel Activities (Public Meeting) (Contact: Luis Betancourt: 301-415-6146)

This meeting will be webcast live at the Web address— https://www.nrc.gov/.

Week of March 2, 2020—Tentative

Thursday, March 5, 2020

10:00 a.m.—Briefing on NRC International Activities (Closed—Ex. 1 & 9)

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov or Tyesha.Bush@nrc.gov.

The NRC is holding the meetings under the authority of the Government in the Sunshine Act, 5 U.S.C. 552b.

Dated at Rockville, Maryland, this 24th day of January 2020.
For the Nuclear Regulatory Commission.
Denise L. McGovern
Policy Coordinator, Office of the Secretary.

[FR Doc. 2020-01530 Filed 1-24-20; 11:15 am]

BILLING CODE 7590-01-P